DEPARTMENT OF AGRICULTURE

Food and Nutrition Service

Agency Information Collection Activities: Proposed Collection: Comment Request: FNS-583, Food Stamp Program Employment and Training Program Activity Report

AGENCY: Food and Nutrition Service (FNS), USDA.

ACTION: Notice.

SUMMARY: In accordance with the Paperwork Reduction Act, this notice invites the general public and other public agencies to comment on a proposed adjustment to the information collection burden for the Food Stamp Program (FSP) Employment and Training Program, currently approved under OMB No. 0584-0339. This notice proposes to reduce the currently approved burden of 31,721 by 9,966 hours. The adjusted burden is 21,755 hours. The reduction is based on changes in annual estimates for reporting on Employment and Training activities.

DATES: Written comments must be submitted on or before July 1, 2008.

ADDRESSES: The Food and Nutrition Service invites interested persons to submit comments on this proposed information collection. Send comments to Dale Walton, Program Analyst, Program Design Branch, Program Development Division, FSP, FNS, 3101 Park Center Drive, Room 810, Alexandria, Virginia 22302-1594.

Comments are invited on: (a) Whether the proposed collection of information is necessary for the proper performance of the functions of the agency, including whether the information will have practical utility; (b) the accuracy of the agency's estimate of burden of the proposed collection of information, including validity of the methodology and assumptions used; (c) ways to enhance the quality, utility, and clarity of the information to be collected; and (d) ways to minimize the burden of the collection of information on those who are to respond, including through the use of appropriate automated, electronic, mechanical, or other technological collection techniques or other form of information technology.

All responses to this notice will be summarized and included in the request for OMB approval. All comments will also become a matter of public record.

FOR FURTHER INFORMATION CONTACT: Dale Walton at (703) 305-2404, or send comment to dale.walton@fns.usda.gov via the Internet.

SUPPLEMENTARY INFORMATION: Title: Employment and Training Program Activity Report.

OMB Number: 0584-0339.

Expiration Date: August 31, 2008.

Type of Request: Revision of a currently approved collection.

Abstract: 7 CFR 273.7(c)(9) requires State agencies to submit quarterly Employment and Training (E&T) Program Activity Reports containing monthly figures for participation in the program. The Food and Nutrition Service (FNS) uses Form FNS-583 to collect participation data. The information collected on the FNS-583 report includes:

• On the first quarter report, the number of work registrants receiving food stamps as of October 1 of the new fiscal year;

• On each quarterly report, by month, the number of new work registrants; the number of able-bodied adults without dependents (ABAWDs) applicants and recipients participating in qualifying components; the number of all other applicants and recipients (including ABAWDs involved in non-qualifying activities participating in components; and the number of ABAWDs exempt under the State agency's 15% exemption allowance.

• On the fourth quarter report, the total number of individuals who participated in each component, which is also sorted by ABAWD and non-ABAWD participants, and the number of individuals who participated in the E&T Program during the fiscal year.

7 CFR 273.7(d)(1)(i)(D) provides that if a State agency will not expend all of the funds allocated to it for a fiscal year, FNS will reallocate unexpended funds to other State agencies during the fiscal year or the subsequent fiscal year as FNS considers appropriate and equitable. After initial E&T allocations are made, State agencies may request more funds, as needed. Typically, FNS receives ten such requests per year. The burden for the time it takes to prepare these requests is included in the burden. After receiving the State requests, FNS will reallocate unexpended funds as provided above. Following is the revised estimated burden for E&T reporting including the burden for State agencies to request additional funds.

Current FNS-583 Report

Reporting

Frequency: 4.

Affected Public: State Agency.

Number of Respondents: 53.

Number of Responses: 212.

Estimated Time per Response: 102.43 hours per State agency.

Estimated Total Annual Reporting Burden: 21,715.16 hours.

Recordkeeping

Number of Respondents: 53.

Number of Records: 212.

Number of Hours per Record: 0.137 hours.

Estimated Total Annual Recordkeeping Burden: 29.044 hours.

Requests for Additional Funds

Reporting

Frequency: 1.

Affected Public: State Agency.

Number of Respondents: 53.

Number of Responses: 10.

Estimated Time per Response: 1.00 hour per request.

Estimated Total Annual Reporting Burden: 10 hours.

Recordkeeping

Number of Respondents: 53.

Number of Records: 10.

Number of Hours per Record: 0.137 hours.

Estimated Total Annual Recordkeeping Burden: 1.37 hour.

Total Annual Reporting and Recordkeeping Burden: 21,755.57 hours.

Dated: April 24, 2008.
Roberto Salazar,
Administrator, Food and Nutrition Service.

[FR Doc. E8-9702 Filed 5-1-08; 8:45 am]

BILLING CODE 3410-30-P